DEPARTMENT OF TRANSPORTATION

Federal Aviation Administration

Notice of Intent To Rule on Change in Use of Aeronautical Property at Warren Field Airport, Washington, NC

AGENCY: Federal Aviation Administration (FAA), DOT.

ACTION: Request for Public Comment.

SUMMARY: The Federal Aviation Administration is requesting public comment on request by the City of Washington to change a portion of airport property from aeronautical to non-aeronautical use at the Warren Field Airport, Washington, North Carolina. The request consists of approximately 32 acres. This action is taken under the provisions of Section 125 of the Wendell H. Ford Aviation Investment Reform Act for the 21st Century (AIR 21).

DATES: Comments must be received on or before January 17, 2014.

ADDRESSES: Documents are available for review at the North Carolina Department of Transportation, Division of Aviation, 1050 Meridian Drive, RDU Airport, NC 27623; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Philip Lanier, Airport Project Manager, NCDOT, 1560 Mail Service Center, Raleigh, NC 27699-1560.

FOR FURTHER INFORMATION CONTACT: Mr. Tim Hester, Community Planner, Federal Aviation Administration, Memphis Airports District Office, 2600, Thousand Oaks Boulevard, Suite 2250, Memphis, TN 38118-2482. The application may be reviewed in person at this same location, by appointment.

SUPPLEMENTARY INFORMATION: The FAA proposes to rule and invites public comment on the request to lease property for non-aeronautical purposes at Warren Field Airport, Washington, NC 27889. Under the provisions of AIR 21 (49 U.S.C. 47107(h)(2)).

On December 9, 2013, the FAA determined that the request to lease property for non-aeronautical purposes at Warren Field Airport meets the procedural requirements of the Federal Aviation Administration. The FAA may approve the request, in whole or in part, no later than January 17, 2014.

The following is a brief overview of the request:

The City of Washington is proposing the lease of approximately 32 acres at Warren Field Airport. The non-aeronautical lease is for a period of 15 (fifteen) years, with an option to extend the lease for a period of 5 (five) years, followed by up to two additional period(s) of 5 (five) years. The non-aeronautical lease is for the purpose of leasing said property to Duke Energy Renewables, to be used as a solar photovoltaic array.

Any person may inspect, by appointment, the request in person at the FAA office listed above under FOR FURTHER INFORMATION CONTACT.

Issued in Memphis, TN, on December 9, 2013.
Paul L. Friedman,
Assistant Manager, Memphis Airports District Office, Southern Region.

[FR Doc. 2013-29942 Filed 12-17-13; 8:45 am]

BILLING CODE P